DEPARTMENT OF TRANSPORTATION

Federal Aviation Administration

Approval of Noise Compatibility Program for W.K. Airport, Battle Creek, MI

AGENCY: Federal Aviation Administration, DOT.

ACTION: Notice.

SUMMARY: The Federal Aviation Administration (FAA) announces its findings on the noise compatibility program submitted by the City of Battle Creek, Michigan, under the provisions of 49 U.S.C. 47501 et seq. (formerly the Aviation Safety and Noise Abatement Act, hereinafter referred to as “the Act”) and 14 Code of Federal Regulations (CFR) Part 150 (hereinafter referred to as “Part 150”). On November 1, 2011, the FAA determined that the noise exposure maps submitted by the City of Battle Creek, Michigan, under Part 150 were in compliance with applicable requirements. On February 16, 2012, the FAA approved the W.K. Kellogg Airport noise compatibility program. All of the recommendations of the program were approved. No program elements relating to new or revised flight procedures for noise abatement were proposed by the airport operator.

DATES: Effective Date: The effective date of the FAA's approval of the Noise Compatibility Program for W.K. Kellogg Airport is February 16, 2012.

FOR FURTHER INFORMATION CONTACT: Katherine S. Delaney, 11677 S. Wayne Road, Suite 107, Romulus, Michigan; Email: Katherine.S.Delaney@faa.gov; Phone: 734-229-2900. Documents reflecting this FAA action may be reviewed at this same location.

SUPPLEMENTARY INFORMATION: This notice announces that the FAA has given its overall approval to the Noise Compatibility Program for W.K. Kellogg Airport, effective February 16, 2012.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program or a determination that all measures covered by the program are eligible for grant-in-aid funding from the FAA under applicable law contained in Title 49 U.S.C. Where federal funding is sought, requests for project grants must be submitted to the FAA Airports District Office in Romulus, Michigan.

The W.K. Kellogg Airport study contains a proposed noise compatibility program comprised of actions designed for phased implementation by airport management and adjacent jurisdictions from 2009 to the year 2015. It was requested that the FAA evaluate and approve this material as a Noise Compatibility Program as described in section 47504 of the Act. The FAA began its review of the program on November 1, 2011 and was required by a provision of the Act to approve or disapprove the program within 180 days (other than the use of new or modified flight procedures for noise control). Failure to approve or disapprove such program within the 180-day period shall be deemed to be an approval of such program, seven proposed actions for noise abatement, noise mitigation, land use planning and program management on and off the airport. The FAA completed its review and determined that the procedural and substantive requirements of the Act and Part 150 have been satisfied. The overall program was approved by the FAA, effective February 16, 2012.

Outright approval was granted for seven specific program measures. The measures that were approved were for voluntary acquisition of residential units within the 65 DNL; sound attenuate eligible existing homes within the 65 DNL; construct a ground run-up enclosure; recommend jurisdictions implement land use controls; develop/implement a fly quiet program; continue the study input committee; and review and update the Part 150 Study as needed.

These determinations are set forth in detail in a Record of Approval signed by the Great Lakes Airports Division Manager on February 16, 2012. The Record of Approval, as well as other evaluation materials and the documents comprising the submittal, are available for review at the FAA office listed above and at the administrative offices of the W.K. Kellogg Airport, Mr. Lawrence Bowron, 15551 S. Airport Road, Battle Creek, MI 49015. The Record of Approval will also be available on-line at: http://www.faa.gov/airports_airtraffic/airports/environmental/airport_noise/part_150/states/.

Issued in Romulus, Michigan on February 17, 2012.
John L. Mayfield, Jr.,
Manager, Detroit Airports District Office.

[FR Doc. 2012-5701 Filed 3-8-12; 8:45 am]

BILLING CODE 4910-13-P